DEPARTMENT OF HOMELAND SECURITY

Coast Guard

33 CFR Part 117

[Docket No. USCG-2025-0464]

Drawbridge Operation Regulation; Atlantic Intracoastal Waterway, Fort Lauderdale, FL

AGENCY: Coast Guard, DHS.

ACTION: Notice of temporary deviation from regulations; request for comments.

SUMMARY: The Coast Guard has issued a temporary deviation from the operating schedule that governs the SE 17th Street (Brooks Memorial) Bridge, across the Atlantic Intracoastal Waterway (AICW), mile 1065.9, at Fort Lauderdale, FL. The City of Fort Lauderdale requested the Coast Guard consider placing additional opening restrictions during weekday rush hour periods to assist with vehicle congestion. This deviation will test a change to the drawbridge operating schedule to determine whether a permanent change to the schedule is needed. The Coast Guard is seeking comments from the public regarding these proposed changes.

DATES: This deviation is effective without actual notice from June 16, 2025 through 11:59 p.m. on November 28, 2025. For the purposes of enforcement, actual notice will be used from 6 a.m. on June 2, 2025, until June 16, 2025.

Comments and related material must reach the Coast Guard on or before July 31, 2025.

ADDRESSES: You may submit comments identified by docket number USCG-2025-0464 using the Federal Decision Making Portal at https://www.regulations.gov.

See the “Public Participation and Request for Comments” portion of the SUPPLEMENTARY INFORMATION section below for instructions on submitting comments.

FOR FURTHER INFORMATION CONTACT: If you have questions on this test deviation, call or email Ms. Jennifer Zercher, Bridge Management Specialist, Seventh Coast Guard District; telephone 571-607-5951, email Jennifer.N.Zercher@uscg.mil.

SUPPLEMENTARY INFORMATION:

I. Background, Purpose and Legal Basis

SE 17th Street (Brooks Memorial) Bridge across the AICW, mile 1065.9, at Fort Lauderdale, FL, is a bascule bridge with a 55-foot vertical clearance at mean high water in the closed position. The normal operating schedule for the bridge is set forth in 33 CFR 117.261(bb)(8).

The Coast Guard received a request from the City of Fort Lauderdale to consider placing additional opening restrictions during weekday rush hour periods to assist with vehicle congestion. The drawbridge currently opens twice an hour for navigation. This temporary deviation will allow the drawbridge to open once an hour during designated rush hour periods and twice an hour all other times. This test deviation will assist with determining if the reasonable needs of navigation are maintained and whether a permanent change to the schedule is needed.

Under this temporary deviation, the SE 17th Street (Brooks Memorial) Bridge will open on the hour and half-hour; except that from 6:50 a.m. to 9:10 a.m. and from 3:50 p.m. to 6:10 p.m., Monday through Friday, except Federal holidays, the drawbridge will open once an hour at the top of the hour. Public vessels of the United States and tugs with tows, upon proper signal, will be passed through any time. Vessels able to pass without an opening may do so at any time.

The Coast Guard will also inform the users of the waterways through our Local and Broadcast Notices to Mariners of the temporary change in operating schedule for the bridge so that vessel operators can arrange their transits to minimize any impact caused by the temporary deviation.

This test deviation will run simultaneously with a Notice of Proposed Rulemaking, under the same name and docket number. Both documents can be found at https://www.regulations.gov and comments can be made to either document.

In accordance with 33 CFR 117.35(e), the drawbridge must return to its regular operating schedule immediately at the end of the effective period of this temporary deviation. This deviation from the operating regulations is authorized under 33 CFR 117.35.

II. Public Participation and Request for Comments

We view public participation as essential to effective rulemaking and will consider all comments and material received during the comment period. Your comment can help shape the outcome of this rulemaking. If you submit a comment, please include the docket number for this rulemaking, indicate the specific section of this document to which each comment applies, and provide a reason for each suggestion or recommendation.

Submitting comments. We encourage you to submit comments through the Federal Decision Making Portal at https://www.regulations.gov. To do so, go to https://www.regulations.gov, type USCG-2025-0464 in the search box and click “Search.” Next, look for this document in the Search Results column, and click on it. Then click on the Comment option. If your material cannot be submitted using https://www.regulations.gov, contact the person in the FOR FURTHER INFORMATION CONTACT section of this document for alternate instructions.

View material in the docket. To view documents mentioned in this deviation as being available in the docket, find the docket as described in the previous paragraph, and then select “Supporting & Related Material” in the Document Type column. Public comments will also be placed in our online docket and can be viewed by following instructions on the https://www.regulations.gov Frequently Asked Questions web page. Also, if you go to the online docket and sign up for email alerts, you will be notified when comments are posted, or a final rule is published of any posting or updates to the docket.

We review all comments received, but we will only post comments that address the topic of this deviation. We may choose not to post off-topic, inappropriate, or duplicate comments that we receive.

We accept anonymous comments. Comments we post to https://www.regulations.gov will include any personal information you have provided. For more information about privacy and submissions in response to this document, see DHS's eRulemaking System of Records notice (85 FR 14226, March 11, 2020).

Dated: June 6, 2025.
Randall D. Overton,
Director, Bridge Administration, Seventh Coast Guard District.

[FR Doc. 2025-10941 Filed 6-13-25; 8:45 am]

BILLING CODE 9110-04-P